DEPARTMENT OF HOMELAND SECURITY

Federal Emergency Management Agency

44 CFR Part 67

[Docket No. FEMA-D-7806]

Proposed Flood Elevation Determinations

AGENCY: Federal Emergency Management Agency, DHS.

ACTION: Proposed rule.

SUMMARY: Technical information or comments are requested on the proposed Base (1% annual chance) Flood Elevations (BFEs) and proposed BFEs modifications for the communities listed below. The BFEs are the basis for the floodplain management measures that the community is required either to adopt or to show evidence of being already in effect in order to qualify or remain qualified for participation in the National Flood Insurance Program (NFIP).

DATES: The comment period is ninety (90) days following the second publication of this proposed rule in a newspaper of local circulation in each community.

ADDRESSES: The proposed BFEs for each community are available for inspection at the office of the Chief Executive Officer of each community. The respective addresses are listed in the table below.

FOR FURTHER INFORMATION CONTACT: William R. Blanton, Jr., Engineering Management Section, Mitigation Directorate, Federal Emergency Management Agency, 500 C Street, SW., Washington, DC 20472, (202) 646-3151.

SUPPLEMENTARY INFORMATION: The Federal Emergency Management Agency (FEMA) proposes to make determinations of BFEs and modified BFEs for each community listed below, in accordance with section 110 of the Flood Disaster Protection Act of 1973, 42 U.S.C. 4104, and 44 CFR 67.4(a).

These proposed BFEs and modified BFEs, together with the floodplain management criteria required by 44 CFR 60.3, are the minimum that are required. They should not be construed to mean that the community must change any existing ordinances that are more stringent in their floodplain management requirements. The community may at any time enact stricter requirements of its own, or pursuant to policies established by other Federal, State or regional entities. These proposed elevations are used to meet the floodplain management requirements of the NFIP and are also used to calculate the appropriate flood insurance premium rates for new buildings built after these elevations are made final, and for the contents in these buildings.

National Environmental Policy Act. This proposed rule is categorically excluded from the requirements of 44 CFR part 10, Environmental Consideration. An environmental impact assessment has not been prepared.

Regulatory Flexibility Act. As flood elevation determinations are not within the scope of the Regulatory Flexibility Act, 5 U.S.C. 601-612, a regulatory flexibility analysis is not required.

Regulatory Classification. This proposed rule is not a significant regulatory action under the criteria of section 3(f) of Executive Order 12866 of September 30, 1993, Regulatory Planning and Review, 58 FR 51735.

Executive Order 13132, Federalism. This proposed rule involves no policies that have federalism implications under Executive Order 13132.

Executive Order 12988, Civil Justice Reform. This proposed rule meets the applicable standards of Executive Order 12988.

List of Subjects in 44 CFR Part 67

Administrative practice and procedure, Flood insurance, Reporting and recordkeeping requirements.

Accordingly, 44 CFR part 67 is proposed to be amended as follows:

PART 67—[AMENDED]

1. The authority citation for part 67 continues to read as follows:

Authority: 42 U.S.C. 4001 et seq.; Reorganization Plan No. 3 of 1978, 3 CFR, 1978 Comp., p. 329; E.O. 12127, 44 FR 19367, 3 CFR, 1979 Comp., p. 376.

§ 67.4 [Amended]

2. The tables published under the authority of § 67.4 are proposed to be amended as follows:

Flooding source(s) | Location of referenced elevation | * Elevation in feet (NGVD). + Elevation in feet (NAVD). # Depth in feet above ground.: Effective | * Elevation in feet (NGVD). + Elevation in feet (NAVD). # Depth in feet above ground.: Modified | Communities affected
Bay County, Florida, and Incorporated Areas
Bayou George | Approximately 800 feet upstream of the confluence with White Bucky Branch | +16 | +17 | Bay County (Unincorporated Areas), City of Panama City.
| Approximately 1.2 miles upstream of Crash Island Drive | None | +60
Buckhorn Creek | At the confluence with Econfina Creek | None | +148 | Bay County (Unincorporated Areas).
| Approximately 1,800 feet upstream of the confluence with Econfina Creek | None | +148
Econfina Creek | At the confluence with Deer Point Lake | None | +6 | Bay County (Unincorporated Areas).
| Approximately 0.7 mile upstream of State Road 20 | None | +28
| At Atlanta and St. Andrews Bay Railroad | None | +147
| Approximately 1,700 feet upstream of U.S. Highway 231 | None | +150
Green Creek | At the confluence with Bear Creek | None | +141 | Bay County (Unincorporated Areas).
| Approximately 880 feet upstream of Gardenia Street | None | +174
Juniper Creek | At U.S. Highway 231 | None | +158 | Bay County (Unincorporated Areas).
| Approximately 1.1 miles upstream of U.S. Highway 231 | None | +172
Laird Street Outfall | At Lagoon Drive | None | +8 | Bay County (Unincorporated Areas), City of Panama City Beach.
| Just south of West Panama City Beach Parkway | None | +16
Robinsons Bayou | Approximately 900 feet upstream of Frankford Avenue | +7 | +10 | Bay County (Unincorporated Areas), City of Panama City.
| Approximately 400 feet south of the intersection of Jenks Avenue and 15th Street | None | +33
Unnamed Tributary 1 to Bear Creek | Approximately 860 feet upstream of the confluence with Bear Creek | None | +124 | Bay County (Unincorporated Areas).
| Approximately 2,800 feet upstream of Pine Ridge Road | None | +154
Unnamed Tributary 2 to Bear Creek | At the confluence with Unnamed Tributary 1 to Bear Creek | None | +135 | Bay County (Unincorporated Areas).
| Approximately 1,350 feet upstream of the confluence with Unnamed Tributary 1 to Bear Creek | None | +141
Unnamed Tributary to Econfina Creek | At the confluence with Econfina Creek | None | +150 | Bay County (Unincorporated Areas).
| Approximately 740 feet upstream of the confluence with Econfina Creek | None | +161
Watson Bayou | Immediately upstream of 11th Street | +8 | +10 | Bay County (Unincorporated Areas), City of Panama City, Town of Cedar Grove.
| Approximately 2,000 feet west of the intersection of Mercedes Avenue and 24th Plaza | None | +36
* National Geodetic Vertical Datum.
+ North American Vertical Datum.
# Depth in feet above ground.
ADDRESSES
City of Panama City
Maps are available for inspection at Panama City Engineering Department, 9 Harrison Avenue, Panama City, FL.
Send comments to Mr. Kenneth R. Hammons, Panama City City Manager, 9 Harrison Avenue, Panama City, FL 32401-2724.
City of Panama City Beach
Maps are available for inspection at Panama City Beach Building Department, 110 South Arnold Road, Panama City Beach, FL.
Send comments to The Honorable Gayle Oberst, Mayor of the City of Panama City Beach, 110 South Arnold Road, Panama City Beach, FL 32413.
Town of Cedar Grove
Maps are available for inspection at Cedar Grove Town Hall, 2728 East 14th Street, Cedar Grove, FL.
Send comments to Mr. Jim Anderson, Cedar Grove Town Manager, 2728 East 14th Street, Cedar Grove, FL 32401.
Bay County (Unincorporated Areas)
Maps are available for inspection at Bay County Planning and Zoning Department, 640 Molberry Avenue, Panama City, FL.
Send comments to Mr. Mike Nelson, Chairman of the Bay County Board of County Commissioners, 310 West 6th Street, Panama City, FL 32401.
Floyd County, Iowa, and Incorporated Areas
Hyers Creek | At Riverside Avenue | *1006 | +1006 | Floyd County (Unincorporated Areas), City of Charles City.
| Approximately 3,800 feet upstream of Cleveland Street | None | +1035
* National Geodetic Vertical Datum.
+ North American Vertical Datum.
# Depth in feet above ground.
ADDRESSES
City of Charles City
Maps are available for inspection at City Hall, 105 Milwaukee Mall, Charles City, IA 50616.
Send comments to The Honorable Jim Erb, Mayor, City of Charles City, 105 Milwaukee Mall, Charles City, IA 50616.
Floyd County (Unincorporated Areas)
Maps are available for inspection at Floyd County Planning and Zoning, 101 South East 1st, Charles City, IA 50616.
Send comments to The Honorable Leo Staudt, Chairman, Board of Supervisors, Floyd County Courthouse, 101 South Main Street, Charles City, IA 50616.
Lyon County, Kansas, and Incorporated Areas
Beaver Creek | At confluence with Cottonwood River | None | +1135 | Lyon County (Unincorporated Areas).
| Just upstream of Road 200 | None | +1209
Cottonwood River | Just upstream of Interstate 35 | None | +1123 | Lyon County (Unincorporated Areas).
| At the County Boundary with Chase County | None | +1144
East Tributary to Beaver Creek | At confluence with Beaver Creek | None | +1142 | Lyon County (Unincorporated Areas).
| Approximately 1250 feet upstream of Pond Embankment | None | +1218
East Tributary to Cottonwood River | Just upstream of Interstate 35 | None | +1123 | Lyon County (Unincorporated Areas), City of Emporia.
| Approximately 3000 feet upstream of Road 180 | None | +1150
Linck Creek | At confluence with Cottonwood River | None | +1128 | Lyon County (Unincorporated Areas).
| Approximately 3000 feet upstream of Road 200 | None | +1205
Ludy Creek | At confluence with Link Creek | None | +1129 | Lyon County (Unincorporated Areas).
| Just downstream of Road 190 | None | +1173
Moon Creek | At confluence with Cottonwood River | None | +1125 | Lyon County (Unincorporated Areas), City of Emporia.
| Approximately 1750 feet Northwest of intersection of Road E and Road 200 | None | +1200
West Tributary to Beaver Creek | At confluence with Beaver Creek | None | +1155 | Lyon County (Unincorporated Areas).
| At County Boundary with Chase County | None | +1187
* National Geodetic Vertical Datum.
+ North American Vertical Datum.
# Depth in feet above ground.
ADDRESSES
City of Emporia
Maps are available for inspection at 104 E. 5th Avenue, Emporia, KS 66801.
Send comments to The Honorable Jim Kessler, Mayor, City of Emporia, P.O. Box 928, 522 Mechanic, Emporia, KS 66801.
Lyon County (Unincorporated Areas)
Maps are available for inspection at 430 Commercial Street, Room 205, Lyon Co. Courthouse, Emporia, KS 66801.
Send comments to The Honorable Marshall Miller, Chairman, Board of Co. Commissioners, 430 Commercial Street, Lyon Co. Courthouse, Emporia, KS 66801.
Huron County, Michigan, and Incorporated Areas
Lake Huron | Entire Shoreline | None | +583 | City of Harbor Beach Port Hope, Township of Gore, Township of Huron, Township of Rubicon, Township of Sand Beach, Township of Sherman, Village of Port Austin.
| Entire Shoreline | None | +583 | City of Harbor Beach, Port Hope, Township of Gore, Township of Huron, Township of Rubicon, Township of Sand Beach, Township of Sherman, Village of Port Austin.
Saginaw Bay | Entire shoreline along the Township of Caseville | +583 | +584 | Township of Caseville, Village of Caseville.
| Entire shoreline along the Township of Hume | None | +584 | Township of Hume.
| Entire shoreline along the Township of Lake | +583 | +584 | Township of Lake.
| Entire shoreline along the Township of McKinley | None | +584 | Township of McKinley.
| Entire shoreline along the Township of Fairhaven | None | +585 | Township of Fairhaven.
| Entire shoreline along the Township of Fairhaven | None | +585 | Township of Fairhaven.
| Entire shoreline along the Township of Sebewaing | +584 | +585 | Township of Sebewaing.
Saginaw Bay | Entire shoreline along the Township of Port Austin | None | +583 | Village of Port Austin, Township of Pointe Aux Barques.
Sebewaing River/State Drain | At the confluence with Saginaw Bay | +584 | +585 | Township of Sebewaing.
| At Bay Street | None | +593
* National Geodetic Vertical Datum.
+ North American Vertical Datum.
# Depth in feet above ground.
ADDRESSES
City of Harbor Beach
Maps are available for inspection at 766 State Street, Harbor Beach, MI 48441.
Send comments to The Honorable Robert J. Swartz, Mayor of Harbor Beach, 766 State Street, Harbor Beach, MI 48441.
Port Hope
Maps are available for inspection at 4250 Lakeshore Drive, Port Hope, MI 48468.
Send comments to The Honorable Gary Schave, Village President, 4250 Lakeshore Drive, Port Hope, MI 48468.
Township of Caseville
Maps are available for inspection at 6767 Main Street, Caseville, MI 48725.
Send comments to Larry Degg, Supervisor, Township of Caseville, 6767 Main Street, Caseville, MI 48725.
Township of Fairhaven
Maps are available for inspection at 9811 Main Street, Bay Port, MI 48759.
Send comments to Mr. Orin J. Englehardt, Township Supervisor, 9546 Kilmanagh Road, Sebewaing, MI 48759.
Township of Gore
Maps are available for inspection at 6980 Moeller Road, Port Hope, MI 48468.
Send comments to Daniel Koglin, Supervisor, Township of Gore, 6819 E. Kinde Road, Port Hope, MI 48468.
Township of Hume
Maps are available for inspection at 1918 Oak Beach Road, Port Austin, MI 48467.
Send comments to John C. Hollister, Supervisor, Township of Hume, 2475 Port Austin Road, Port Austin, MI 48467.
Township of Huron
Maps are available for inspection at 5150 Kaufman Road, Port Hope, MI 48468.
Send comments to Evan Steinbis, Supervisor, Township of Huron, 5150 Kaufman Road, Port Hope, MI 48468.
Township of Lake
Maps are available for inspection at 6064 Dufty Road, Caseville, MI 48725.
Send comments to Clay Kelterborn, Supervisor, Township of Lake, 4988 W. Kinde Road, P.O. Box 429, Caseville, MI 48725.
Township of McKinley
Maps are available for inspection at 2701 Sturm Road, Pigeon, MI 48755.
Send comments to Jerry Beyer, Supervisor, Township of McKinley, 7755 Campbell Road, Bay Port, MI 48720.
Township of Pointe Aux Barques
Maps are available for inspection at 9219 Linwood Road, Port Austin, MI 48467.
Send comments to Mr. Clayton C. Purdy, 1840 Cliff Road, Port Austin, MI 48467.
Township of Rubicon
Maps are available for inspection at 3195 N. Lakeshore Road, Port Hope, MI 48468.
Send comments to Robert Oeschger, Supervisor, Township of Rubicon, 3840 Ruppel Road, Port Hope, MI 48468.
Township of Sand Beach
Maps are available for inspection at 8665 Lincoln Road, Harbor Beach, MI 48441.
Send comments to Wade Mazure, Supervisor, Township of Sand Beach, 6573 Learman Road, Harbor Beach, MI 48441.
Township of Sebewaing
Maps are available for inspection at 108 W. Main, Sebewaing, MI 48759.
Send comments to Patrice Gettel-Lindow, President, Village of Sebewaing, 108 W. Main, Sebewaing, MI 48759.
Township of Sherman
Maps are available for inspection at 4599 S. Ruth Road, Ruth, MI 48470.
Send comments to Leo J. Emming, Supervisor, Township of Sherman, 4484 N. Ruth Road, Ruth, MI 48470.
Village of Caseville
Maps are available for inspection at 6767 Main Street, Caseville, MI 48725.
Send comments to Clyde D. Campbell, President, Village of Caseville, 6729 Ash Street, Caseville, MI 48725.
Village of Port Austin
Maps are available for inspection at 17 W. State Street, Port Austin, MI 48467.
Send comments to Marilyn Bruce, President, Village of Port
Village of Ubly
Maps are available for inspection at 2241 Pierce Street, Ubly, MI 48475.
Send comments to Dennis West, President, Village of Ubly, 2241 Pierce Street Austin, 17 W. State Street, Port Austin, MI 48467., Ubly, MI 48475.
Anson County, North Carolina, and Incorporated Areas
Bailey Creek | At the confluence with North Fork Jones Creek | None | +257 | Anson County (Unincorporated Areas).
| At the confluence of Brush Fork and Ready Fork | None | +282
Bell Creek | At the confluence with Deadfall Creek | None | +283 | Anson County (Unincorporated Areas).
| Approximately 1.0 mile upstream of Little Huntley Road (State Road 1217) | None | +308
Big Branch | At the confluence with Lanes Creek | None | +333 | Anson County (Unincorporated Areas).
| Approximately 1,450 feet upstream of Birmingham Road (State Road 1436) | None | +343
North | At the confluence with Cribs Creek | None | +256 | Anson County (Unincorporated Areas).
| Approximately 0.4 mile upstream of the confluence with Cribs Creek | None | +271
Black Jack Branch | At the confluence with Brown Creek | None | +291 | Anson County (Unincorporated Areas).
| Approximately 1.2 miles upstream of Lower White Store Road (State Road 1252) | None | +320
Blackwell Branch | Approximately 1,000 feet upstream of the confluence with Lanes Creek | None | +365 | Anson County (Unincorporated Areas).
| At the confluence of Caudle Branch and Maness Branch | None | +424
Boles Creek | At the confluence with Deadfall Creek | None | +293 | Anson County (Unincorporated Areas).
| Approximately 550 feet downstream of Little Huntley Road (State Road 1217) | None | +301
Brown Creek | At the confluence with Pee Dee River | None | +213 | Anson County (Unincorporated Areas), Town of Polkton.
| Approximately 0.9 mile upstream of Okey High Road (State Road 1229) | None | +335
Tributary 1 | At the confluence with Brown Creek | None | +251 | Anson County (Unincorporated Areas), Town of Polkton.
| Approximately 1,450 feet upstream of Barrass Street | None | +310
Tributary 2 | At the confluence with Brown Creek | None | +255 | Town of Polkton.
| Approximately 480 feet upstream of East Freemont Street | None | +313
Tributary 3 | At the confluence with Brown Creek | None | +296 | Anson County (Unincorporated Areas).
| Approximately 0.9 mile upstream of the confluence with Brown Creek | None | +309
Tributary 4 | At the confluence with Brown Creek | None | +303 | Anson County (Unincorporated Areas).
| Approximately 1.0 mile upstream of the confluence of Brown Creek Tributary 4A | None | +329
Tributary 4A | At the confluence with Brown Creek Tributary 4 | None | +311 | Anson County (Unincorporated Areas).
| Approximately 1.0 mile upstream of the confluence with Brown Creek Tributary 4 | None | +334
Brush Fork | At the confluence with Bailey Creek and Reedy Fork | None | +282 | Anson County (Unincorporated Areas), Town of Wadesboro.
| Approximately 360 feet downstream of South Park Road | None | +361
Tributary 1 | At the confluence with Brush Fork | None | +315 | Town of Wadesboro.
| Approximately 0.5 mile upstream of East Caswell Street | None | +344
Tributary 2 | At the confluence with Brush Fork | None | +324 | Town of Wadesboro.
| Approximately 80 feet downstream of US 52 Highway South | None | +351
Tributary 3 | At the confluence with Brush Fork | None | +328 | Town of Wadesboro.
| Approximately 1,820 feet upstream of Wortham Street | None | +341
Buffalo Creek | At the confluence with Pee Dee River | None | +217 | Anson County (Unincorporated Areas).
| Approximately 430 feet upstream of Railroad | None | +259
South | At the confluence with Pee Dee River | None | +189 | Anson County (Unincorporated Areas).
| Approximately 650 feet downstream of Clark Mountain Road (State Road 1744) | None | +216
Tributary 1 | At the confluence with Buffalo Creek | None | +218 | Anson County (Unincorporated Areas).
| Approximately 610 feet upstream of Pinkston River Road (State Road 1627) | None | +220
Cabin Branch | At the confluence with Brown Creek | None | +229 | Anson County (Unincorporated Areas).
| Approximately 1,060 feet upstream of Jacks Branch Road (State Road 1637) | None | +249
Camp Branch | At the confluence with Rocky River | None | +220 | Anson County (Unincorporated Areas).
| Approximately 780 feet upstream of Railroad | None | +267
Tributary 1 | At the confluence with Camp Branch | None | +220 | Anson County (Unincorporated Areas).
| Approximately 1,540 feet downstream of US 52 Highway North | None | +238
Canal Branch | At the confluence with Palmetto Branch | None | +217 | Anson County (Unincorporated Areas).
| Approximately 80 feet upstream of Threadgill Street | None | +310
Canebreak Branch | At the confluence with Lanes Creek | None | +332 | Anson County (Unincorporated Areas).
| Approximately 530 feet upstream of Johnson Road (State Road 1435) | None | +342
Caudle Branch | At the confluence with Blackwell Branch and Maness | None | +424 | Anson County (Unincorporated Areas).
| Approximately 1,000 feet upstream of Stegall Road (State Road 1407) | None | +430
Cedar Branch | At the confluence with Lanes Creek | None | +330 | Anson County (Unincorporated Areas).
| Approximately 800 feet upstream of Bill Curlee Road (State Road 1415) | None | +337
Cedar Creek | At the confluence with Pee Dee River | None | +210 | Anson County (Unincorporated Areas).
| Approximately 0.6 mile upstream of the confluence of Cedar Creek Tributary 7 | None | +323
Tributary 1 | At the confluence with Cedar Creek | None | +210 | Anson County (Unincorporated Areas).
| Approximately 0.8 mile upstream of the confluence with Cedar Creek | None | +221
Tributary 2 | At the confluence with Cedar Creek | None | +210 | Anson County (Unincorporated Areas).
| Approximately 0.5 mile upstream of the confluence with Cedar Creek | None | +221
Tributary 3 | At the confluence with Cedar Creek | None | +212 | Anson County (Unincorporated Areas).
| Approximately 0.9 mile upstream of the confluence with Cedar Creek | None | +231
Tributary 4 | At the confluence with Cedar Creek | None | +251 | Anson County (Unincorporated Areas).
| Approximately 0.5 mile upstream of the confluence with Cedar Creek | None | +261
Tributary 5 | At the confluence with Cedar Creek | None | +278 | Anson County (Unincorporated Areas).
| Approximately 680 feet upstream of Doc Wyatt Road | None | +286
Tributary 6 | At the confluence with Cedar Creek | None | +279 | Anson County (Unincorporated Areas).
| Approximately 0.8 mile upstream of Cox Road | None | +310
Tributary 7 | At the confluence with Cedar Creek | None | +292 | Anson County (Unincorporated Areas).
| Approximately 0.4 mile upstream of the confluence with Cedar Creek | None | +310
Clay Creek Tributary | At the North Carolina/South Carolina State boundary | None | +337 | Anson County (Unincorporated Areas).
| Approximately 0.4 mile upstream of the North Carolina/South Carolina State boundary | None | +341
Cranes Branch | At the confluence with Brown Creek | None | +240 | Anson County (Unincorporated Areas).
| Approximately 0.6 mile upstream of Cameron Briley Road (State Road 1429) | None | +261
Cribs Creek | At the confluence with Rocky River | None | +256 | Anson County (Unincorporated Areas).
| Approximately 0.7 mile upstream of NC 742 Highway North | None | +383
Culpepper Creek | At the confluence with Goulds Fork | None | +271 | Anson County (Unincorporated Areas), Town of Wadesboro.
| Approximately 1.4 miles upstream of Avery Road | None | +307
Deadfall Creek | At the confluence of Thompson Creek | None | +244 | Anson County (Unincorporated Areas).
| Approximately 660 feet downstream of Long Pine Church Road (State Road 1220) | None | +301
Derita Creek | At the confluence with Brush Fork | None | +314 | Anson County (Unincorporated Areas), Town of Wadesboro.
| Approximately 1,460 feet upstream of Railroad | None | +355
Flat Fork | At the confluence with Brown Creek | None | +213 | Anson County (Unincorporated Areas).
| Approximately 1.5 miles upstream of the confluence with Flat Fork Tributary 1 | None | +253
Tributary 1 | At the confluence with Flat Fork | None | +230 | Anson County (Unincorporated Areas).
| Approximately 2.2 miles upstream of the confluence with Flat Fork | None | +287
Goulds Fork | At the confluence with Brown Creek | None | +222 | Anson County (Unincorporated Areas), Town of Wadesboro.
| Approximately 0.9 mile upstream of White Store Road (State Road 1205) | None | +330
Tributary 1 | At the confluence with Goulds Fork | None | +245 | Anson County (Unincorporated Areas).
| Approximately 0.5 mile downstream of NC 742 Highway North | None | +279
Tributary 2 | At the confluence with Goulds Fork | None | +269 | Anson County (Unincorporated Areas), Town of Wadesboro.
| Approximately 0.5 mile upstream of Avery Road | None | +286
Grindstone Branch | At the confluence with Goulds Fork | None | +237 | Anson County (Unincorporated Areas), Town of Wadesboro.
| Approximately 0.7 mile upstream of Powe Street (State Road 1655) | None | +290
Tributary 1 | At the confluence with Grindstone Branch | None | +272 | Anson County (Unincorporated Areas).
| Approximately 1,820 feet upstream of Airport Road (State Road 1645) | None | +304
Hale Creek | At the confluence with Jones Creek | None | +192 | Anson County (Unincorporated Areas).
| Approximately 1,690 feet downstream of Knotts Road (State Road 1807) | None | +260
Tributary 1 | At the confluence with Hale Creek | None | +213 | Anson County (Unincorporated Areas).
| Approximately 0.4 mile upstream of the confluence with Hale Creek | None | +231
Tributary 2 | At the confluence with Hale Creek | None | +233 | Anson County (Unincorporated Areas).
| Approximately 0.5 mile upstream of the confluence with Hale Creek | None | +248
Hurricane Creek | At the confluence with Brown Creek | None | +213 | Anson County (Unincorporated Areas).
| Approximately 1.3 miles upstream of Dennis Road (State Road 1649) | None | +233
Island Creek | At the confluence with Pee Dee River | None | +139 | Anson County (Unincorporated Areas).
| Approximately 1.0 mile upstream of NC Highway 145 | None | +225
Tributary 1 | At the confluence with Island Creek | None | +139 | Anson County (Unincorporated Areas).
| Approximately 0.7 mile upstream of the confluence with Island Creek | None | +162
Jacks Branch (into Brown Creek) | At the confluence with Brown Creek | None | +224 | Anson County (Unincorporated Areas).
| Approximately 700 feet upstream of Mount Vernon Road (State Road 1638) | None | +250
Jenkins Branch | At the confluence with Pee Dee River | None | +190 | Anson County (Unincorporated Areas).
| Approximately 1.6 miles upstream of the confluence with Pee Dee River | None | +216
Jones Creek | At the confluence with Pee Dee River | None | +128 | Anson County (Unincorporated Areas).
| At the confluence of North Fork Jones Creek and South Fork Jones Creek | None | +230
Tributary 1 | At the confluence with Jones Creek | None | +129 | Anson County (Unincorporated Areas).
| Approximately 0.9 mile upstream of the confluence with Jones Creek | None | +150
Kelly Branch | At the confluence with Brown Creek | None | +270 | Anson County (Unincorporated Areas).
| Approximately 0.6 mile upstream of Lower White Store Road (State Road 1252) | None | +302
Lacey Branch | At German Hill Road (State Road 1404) | None | +377 | Anson County (Unincorporated Areas).
| Approximately 200 feet upstream of Pulpwood Yard Road (State Road 1401) | None | +446
Lampley Branch | At the confluence with North Fork Jones Creek | None | +285 | Anson County (Unincorporated Areas), Town of Wadesboro.
| Approximately 0.9 mile upstream of Burns Street (State Road 1401) | None | +429
Lanes Creek | At the confluence with Rocky River | None | +248 | Anson County (Unincorporated Areas), Town of Peachland.
| Approximately 0.4 mile upstream of confluence of Beaverdam Creek | None | +416
Tributary 1 | At the confluence with Lanes Creek | None | +248 | Anson County (Unincorporated Areas).
| Approximately 0.6 mile upstream of the confluence with Lanes Creek | None | +249
Tributary 2 | At the confluence with Lanes Creek | None | +248 | Anson County (Unincorporated Areas).
| Approximately 0.5 mile upstream of the confluence with Lanes Creek | None | +275
Tributary 3 | At the confluence with Lanes Creek | None | +256 | Anson County (Unincorporated Areas).
| Approximately 0.4 mile upstream of the confluence with Lanes Creek | None | +264
Tributary 4 | At the confluence with Lanes Creek | None | +315 | Anson County (Unincorporated Areas).
| Approximately 1,880 feet upstream of the confluence with Lanes Creek | None | +328
Tributary 5 | At the confluence with Lanes Creek | None | +340 | Anson County (Unincorporated Areas).
| Approximately 1,400 feet upstream of the confluence with Lanes Creek | None | +354
Ledbetter Branch | At the confluence with Brown Creek | None | +255 | Anson County (Unincorporated Areas), Town of Polkton.
| Approximately 510 feet upstream of West Polk Street (State Road 1121) | None | +298
Tributary 1 | At the confluence with Ledbetter Branch | None | +284 | Town of Polkton.
| Approximately 570 feet upstream of West Polk Street (State Road 1121) | None | +309
Leggett Branch | At the confluence with Little Brown Creek | None | +308 | Anson County (Unincorporated Areas).
| Approximately 860 feet upstream of White Store Road (State Road 1121) | None | +335
Lick Creek | At the confluence with Brown Creek | None | +271 | Anson County (Unincorporated Areas).
| Approximately 0.4 mile upstream of Lowery Road (State Road 1244) | None | +314
Little Brown Creek | At the confluence with Brown Creek | None | +251 | Anson County (Unincorporated Areas), Town of Polkton.
| Approximately 340 feet downstream of White Store Road (State Road 1228) | None | +330
Little Creek | At the confluence with Pee Dee River | None | +129 | Anson County (Unincorporated Areas).
| Approximately 100 feet downstream of Pit Road (State Road 1801) | None | +165
North | At the confluence with Rocky River | None | +246 | Anson County (Unincorporated Areas).
| Approximately 400 feet upstream of Little Creek Road (State Road 1619) | None | +284
Tributary 1 | At the confluence with Little Creek | None | +130 | Anson County (Unincorporated Areas).
| Approximately 1.1 miles upstream of the confluence with Little Creek | None | +163
Little Cribs Creek | At the confluence with Cribs Creek | None | +323 | Anson County (Unincorporated Areas).
| Approximately 0.5 mile upstream of the confluence with Cribs Creek | None | +337
Maness Branch | At the confluence with Caudle Branch and Blackwell Branch | None | +424 | Anson County (Unincorporated Areas).
| Approximately 0.3 mile upstream of Old Plank Road (State Road 1421) | None | +440
McCoy Creek | At the confluence with Pee Dee River | None | +149 | Anson County (Unincorporated Areas).
| Approximately 650 feet downstream of Blewett Falls Road (State Road 1745) | None | +180
Mill Creek | At the confluence with Pee Dee River | None | +123 | Anson County (Unincorporated Areas).
| Approximately 0.6 mile upstream of US Highway 52 | None | +253
Tributary 1 | At the confluence with Mill Creek | None | +241 | Anson County (Unincorporated Areas), Town of Morven.
| Approximately 230 feet upstream of South White Oak Street | None | +364
North Fork | At the confluence with Lampley Branch | None | +386 | Town of Wadesboro.
| Approximately 550 feet downstream of NC 109 Highway South | None | +411
Jones Creek | At the confluence with Jones Creek and South Fork Jones Creek | None | +230 | Anson County (Unincorporated Areas).
| Approximately 0.4 mile upstream of NC 742 Highway South | None | +323
Tributary 1 | At the confluence with North Fork Jones Creek | None | +296 | Anson County (Unincorporated Areas).
| Approximately 0.4 mile upstream of the confluence with North Fork Jones Creek | None | +360
Smith Creek | At the confluence with Smith Creek | None | +189 | Anson County (Unincorporated Areas).
| Approximately 0.4 mile upstream of Dr. Sorrell Road (State Road 1741) | None | +214
Palmetto Branch | At the confluence with Brown Creek | None | +216 | Anson County (Unincorporated Areas).
| Approximately 0.5 mile upstream of Railroad | None | +248
Pee Dee River | Just downstream of the confluence with Whortenberry Creek | None | +109 | Anson County (Unincorporated Areas).
| At the confluence with Rocky River | None | +220
Tributary 1 | At the confluence with Pee Dee River | None | +134 | Anson County (Unincorporated Areas).
| Approximately 0.8 mile upstream of the confluence with Pee Dee River | None | +147
Tributary 2 | At the confluence with Pee Dee River | None | +146 | Anson County (Unincorporated Areas).
| Approximately 1.0 mile upstream of the confluence with Pee Dee River | None | +171
Tributary 3 | At the confluence with Pee Dee River | None | +194 | Anson County (Unincorporated Areas).
| Approximately 2.8 miles upstream of the confluence with Pee Dee River | None | +223
Tributary 4 | At the confluence with Pee Dee River | None | +201 | Anson County (Unincorporated Areas).
| Approximately 200 feet downstream of Stanback Ferry Road (State Road 1703) | None | +213
Pinch Gut Creek | At the confluence with Brown Creek | None | +245 | Anson County (Unincorporated Areas).
| Approximately 1.0 mile upstream of the confluence of Pinch Gut Creek Tributary 2 | None | +293
Tributary 1 | At the confluence with Pinch Gut Creek | None | +245 | Anson County (Unincorporated Areas).
| Approximately 1.0 mile upstream of the confluence with Pinch Gut Creek | None | +257
Tributary 2 | At the confluence with Pinch Gut Creek | None | +270 | Anson County (Unincorporated Areas).
| Approximately 0.5 mile upstream of the confluence with Pinch Gut Creek | None | +281
Pressley Creek | At the confluence with Pee Dee River | None | +217 | Anson County (Unincorporated Areas).
| Approximately 1.450 feet upstream of Pinkston River Road (State Road 1627) | None | +223
Tributary 1 | At the confluence with Pressley Creek | None | +217 | Anson County (Unincorporated Areas).
| Approximately 570 feet upstream of Pinkston River Road (State Road 1627) | None | +224
Reeder Branch | At the confluence with Pee Dee River | None | +190 | Anson County (Unincorporated Areas).
| Approximately 1.7 miles upstream of the confluence with Pee Dee River | None | +220
Reedy Fork | At the confluence with Bailey Creek and Brush Fork | None | +282 | Anson County (Unincorporated Areas).
| Approximately 0.4 mile upstream of West Wall Street (State Road 1730) | None | +317
Rhoddy Creek | At the confluence with Deadfall Creek | None | +247 | Anson County (Unincorporated Areas).
| Approximately 1.0 mile upstream of the confluence with Deadfall Creek | None | +270
Richardson Creek | At the confluence with Rocky River | None | +259 | Anson County (Unincorporated Areas).
| Approximately 0.5 miles upstream of Blonnie Ross Road (State Road 1459) | None | +295
Rocky Branch | At the confluence with Lanes Creek | None | +346 | Anson County (Unincorporated Areas).
| Approximately 1,440 feet upstream of the confluence with Lanes Creek | None | +357
Rocky River | At the confluence with Pee Dee River | None | +220 | Anson County (Unincorporated Areas).
| At the Anson/Union County boundary | None | +302
Tributary 13 | At the confluence with Rocky River | None | +250 | Anson County (Unincorporated Areas).
| Approximately 0.6 mile upstream of the confluence with Rocky River | None | +277
Tributary 2 | At the confluence with Rocky River | None | +235 | Anson County (Unincorporated Areas).
| Approximately 0.6 mile upstream of the confluence with Rocky River | None | +237
Savannah Branch | At the North Carolina/South Carolina State boundary | None | +331 | Anson County (Unincorporated Areas).
| Approximately 0.4 mile upstream of the North Carolina/South Carolina State boundary | None | +336
Savannah Creek | At the confluence with Pee Dee River | None | +195 | Anson County (Unincorporated Areas).
| Approximately 1.6 miles upstream of Mills Peach Orchard Road (State Road 1742) | None | +293
Tributary 1 | At the confluence with Savannah Creek | None | +208 | Anson County (Unincorporated Areas).
| Approximately 1,690 feet upstream of the confluence of Savannah Creek Tributary 1A | None | +217
Tributary 1A | At the confluence with Savannah Creek Tributary 1 | None | +211 | Anson County (Unincorporated Areas).
| Approximately 1,680 feet upstream of the confluence with Savannah Creek Tributary 1 | None | +219
Tributary 2 | At the confluence with Savannah Creek | None | +222 | Anson County (Unincorporated Areas).
| Approximately 0.4 mile upstream of the confluence with Savannah Creek | None | +231
Shaw Creek | At the confluence with Deadfall Creek | None | +281 | Anson County (Unincorporated Areas).
| Approximately 500 feet downstream of Union Church Road (State Road 1003) | None | +324
Smith Creek | At the confluence with Pee Dee River | None | +189 | Anson County (Unincorporated Areas).
| Approximately 2.4 miles upstream of the confluence of North Fork Smith Creek | None | +264
South Fork Jones Creek | At the confluence with Jones Creek and North Fork Jones Creek | None | +230 | Anson County (Unincorporated Areas).
| Approximately 1,350 feet upstream of NC 742 Highway South | None | +318
Swans Branch | At the confluence with Brown Creek | None | +255 | Anson County (Unincorporated Areas).
| Approximately 1.2 miles upstream of the confluence of Swans Branch Tributary 1 | None | +293
Tributary 1 | At the confluence with Swans Branch | None | +267 | Anson County (Unincorporated Areas).
| Approximately 550 feet upstream of US 74 Highway West | None | +280
Thompson Creek | At the downstream North Carolina/South Carolina State boundary | None | +244 | Anson County (Unincorporated Areas).
| At the upstream North Carolina/South Carolina State boundary | None | +260
Turkey Top Creek | At the confluence with Pee Dee River | None | +205 | Anson County (Unincorporated Areas).
| Approximately 1,170 feet downstream of Stanback Ferry Road (State Road 1703) | None | +220
Tributary 1 | At the confluence with Turkey Top Creek | None | +205 | Anson County (Unincorporated Areas).
| Approximately 1,250 feet upstream of Stanback Ferry Road (State Road 1703) | None | +219
Tributary 2 | At the confluence with Turkey Top Creek | None | +208 | Anson County (Unincorporated Areas).
| Approximately 1,140 feet upstream of Stanback Ferry Road (State Road 1703) | None | +224
Whortenberry Creek | At the confluence with Pee Dee River | None | +110 | Anson County (Unincorporated Areas).
| Approximately 1,270 feet upstream of Sneedsboro Road (State Road 1829) | None | +139
Wide Mouth Branch | Approximately 0.5 mile upstream of the confluence with Lanes Creek | +394 | +395 | Anson County (Unincorporated Areas).
| At the Anson/Union County boundary | None | +406
* National Geodetic Vertical Datum.
+ North American Vertical Datum.
# Depth in feet above ground.
ADDRESSES
Town of Ansonville
Maps are available for inspection at the Ansonville Town Hall, 8778 US Highway 52, Ansonville, North Carolina.
Send comments to The Honorable Joe Estridge, Mayor of the Town of Ansonville, P.O. Box 437, Ansonville, North Carolina 28007.
Town of Morven
Maps are available for inspection at the Morven Town Hall, 301 East Main Street, Morven, North Carolina.
Send comments to The Honorable Theodore Carr, Mayor of the Town of Morven, P.O. Box 295, Morven, North Carolina 28119.
Town of Peachland
Maps are available for inspection at the Peachland Town Hall, 25 West Passaic Street, Peachland, North Carolina.
Send comments to The Honorable Steven Garris, Mayor of the Town of Peachland, P.O. Box 120, Peachland, North Carolina 28133.
Town of Polkton
Maps are available for inspection at the Polkton Town Hall, 35 West Polk Street, Polkton, North Carolina.
Send comments to The Honorable Minne Staton, Mayor of the Town of Polkton, P.O. Box 234, Polkton, North Carolina 28135.
Town of Wadesboro
Maps are available for inspection at the Wadesboro Town Hall, 124-126 East Wade Street, Wadesboro, North Carolina.
Send comments to The Honorable Don McRorie, Mayor of the Town of Wadesboro, P.O. Box 697, Wadesboro, North Carolina 28170.
Anson County (Unincorporated Areas)
Maps are available for inspection at the Anson County Inspections and Permitting Department, 107 East Ashe Street, Wadesboro, North Carolina.
Send comments to Mr. Andy Lucas, Anson County Manager, 114 North Greene Street, Room 30, Wadesboro, North Carolina 28170.
Rowan County, North Carolina, and Incorporated Areas
Back Creek | At the confluence with North Second Creek | None | +672 | Rowan County (Unincorporated Areas).
| At the Iredell/Rowan County boundary | None | +760
Tributary 1 | At the confluence with Back Creek | None | +759 | Rowan County (Unincorporated Areas).
| At the Iredell/Rowan County boundary | None | +763
Beaverdam Creek (East) | At the confluence with North Second Creek | None | +655 | Rowan County (Unincorporated Areas).
| Approximately 0.4 mile upstream of NC Highway 801 | None | +718
(West) | At the confluence with Withrow Creek | None | +684 | Rowan County (Unincorporated Areas), Town of Cleveland.
| Approximately 2.1 miles upstream of Umberger Road | None | +851
Bell Branch | At the confluence with South Yadkin River | None | +697 | Rowan County (Unincorporated Areas).
| Approximately 1,500 feet upstream of the confluence with South Yadkin River | None | +697
Bost Branch | At the confluence with Second Creek | None | +669 | Town of Rockwell.
| Approximately 1,655 feet upstream of the confluence with Second Creek | None | +676
Bostian Heights Branch | Approximately 150 feet upstream of Scercy Road (State Road 1346) | +741 | +742 | Rowan County (Unincorporated Areas).
| Approximately 225 feet upstream of Daugherty Road (State Road 1243) | +756 | +763
Cedar Creek | At the confluence with Yadkin River | None | +578 | Rowan County (Unincorporated Areas).
| Approximately 0.4 mile upstream of River Road (State Road 2152) | None | +578
Church Creek | At the confluence with Crane Creek/High Rock Lake | None | +626 | Rowan County (Unincorporated Areas), Town of Granite Quarry.
| Approximately 1.0 mile upstream of U.S. Highway 52 | None | +759
Tributary 1 | At the confluence with Church Creek | None | +660 | Rowan County (Unincorporated Areas), Town of Granite Quarry.
| Approximately 380 feet downstream of U.S. Highway 52 | None | +770
Tributary 1A | At the confluence with Church Creek Tributary 1 | None | +660 | Rowan County (Unincorporated Areas), Town of Granite Quarry.
| Approximately 0.5 mile upstream of Fish Pond Road | None | +752
Tributary 2 | At the confluence with Church Creek | None | +733 | Unincorporated Areas of Rowan County, Town of Granite Quarry.
| Approximately 100 feet downstream of Percy Lane | None | +757
Coddle Creek | At the Iredell/Rowan/Cabarrus County boundary | None | +674 | Rowan County (Unincorporated Areas).
| Approximately 40 feet upstream of the confluence of East Fork Creek | None | +674
Cold Water Creek | At Moose Road (State Road 1308) | None | +650 | Rowan County (Unincorporated Areas).
| Approximately 0.5 mile upstream of Moose Road (State Road 1308) | None | +653
Tributary 1 | At Interstate 85 | None | +661 | Rowan County (Unincorporated Areas).
| Approximately 520 feet upstream of Old Beatty Ford Road (State Road 1211) | None | +663
Crane Creek | Approximately 0.5 mile downstream of the confluence of Town Creek | None | +626 | Rowan County (Unincorporated Areas), City of Salisbury, Town of East Spencer, Town of Granite Quarry.
| At the downstream side of U.S. Highway 52 | +700 | +701
Tributary 1 | At the confluence with Crane Creek | None | +626 | Rowan County (Unincorporated Areas).
| Approximately 0.9 mile upstream of Lake Fork Road (State Road 2170) | None | +651
Tributary 2 | Approximately 2,400 feet upstream of the confluence with Crane Creek | None | +735 | Town of Faith.
| Approximately 220 feet upstream of Cemetery Drive | None | +862
Crane Creek/High Rock Lake | Entire shoreline within Rowan County | None | +626 | Rowan County (Unincorporated Areas).
| Entire shoreline within Rowan County | None | +626
Draft Branch | At the confluence with Grants Creek | +671 | +672 | City of Salisbury.
| Approximately 1.0 mile upstream of the confluence with Grants Creek | +671 | +672
Dutch Buffalo Creek Tributary 1 | Approximately 20 feet downstream of the Cabarrus/Rowan County boundary | None | +688 | Rowan County (Unincorporated Areas).
| At the Rowan/Cabarrus County boundary | None | +688
East Fork Creek | At the confluence with Coddle Creek | None | +674 | Rowan County (Unincorporated Areas).
| Approximately 2.0 miles upstream of Unity Church Road (State Road 1355) | None | +802
Fisher Branch | At the confluence with Second Creek | None | +670 | Rowan County (Unincorporated Areas), Town of Rockwell.
| Approximately 60 feet downstream of Fisher Road (State Road 2320) | None | +740
Flat Creek | At the confluence with Yadkin River | None | +574 | Rowan County (Unincorporated Areas).
| Approximately 1.3 miles upstream of River Road (State Road 2152) | None | +589
Flat Rock Branch | At the confluence with Grants Creek | +761 | +760 | Rowan County (Unincorporated Areas), Town of Landis.
| Approximately 0.9 mile upstream of the confluence with Grants Creek | None | +787
Fourth Creek | At the confluence with South Yadkin River | None | +656 | Rowan County (Unincorporated Areas).
| Approximately 500 feet upstream of the Iredell/Rowan County boundary | None | +730
Tributary 4 | At the confluence with Fourth Creek | None | +708 | Rowan County (Unincorporated Areas).
| Approximately 0.5 mile upstream of the confluence with Fourth Creek | None | +711
Tributary 5 | At the confluence with Fourth Creek | None | +709 | Rowan County (Unincorporated Areas).
| Approximately 360 feet upstream of Baker Mill Road (State Road 1957) | None | +713
Grants Creek | At the confluence with Yadkin River | None | +640 | Rowan County (Unincorporated Areas), City of Salisbury, Town of China Grove, Town of Landis, Town of Spencer.
| Approximately 1,190 feet upstream of North Meriah Street | +827 | +835
Tributary 2 | Approximately 1,000 feet upstream of the confluence with Grants Creek | +674 | +675 | City of Salisbury.
| Approximately 870 feet downstream of Par Drive | None | +688
Tributary 3 | Approximately 1,750 feet upstream of the confluence with Grants Creek | +677 | +678 | City of Salisbury.
| Approximately 0.4 mile upstream of the confluence with Grants Creek | None | +680
Tributary 4 | Approximately 2,000 feet upstream of the confluence with Grants Creek | +680 | +681 | City of Salisbury, Rowan County (Unincorporated Areas).
| Approximately 1,700 feet downstream of National Guard Road | None | +689
Henderson Branch | At the confluence with Grants Creek | +644 | +647 | City of Salisbury.
| Approximately 1,500 feet upstream of the confluence with Grants Creek | +646 | +647
Innis Street Creek | At the confluence with Town Creek | +696 | +697 | City of Salisbury.
| Just downstream of North Arlington Street | +696 | +697
Irish Buffalo Creek | Approximately 0.5 mile upstream of Cannon Farm Road | +732 | +737 | Rowan County (Unincorporated Areas).
| Approximately 1.3 miles upstream of Echo Hollow Drive | +857 | +865
Tributary 4 | Approximately 0.6 mile upstream of the confluence with Irish Buffalo Creek | None | +744 | Rowan County (Unincorporated Areas), Town of Landis.
| Approximately 0.9 mile upstream of the confluence with Irish Buffalo Creek | None | +760
Tributary 5 | Approximately 0.6 mile upstream of the confluence with Irish Buffalo Creek | None | +747 | Town of Landis.
| Approximately 0.8 mile upstream of the confluence with Irish Buffalo Creek | None | +752
Jump and Run Branch | At the confluence with Grants Creek | +655 | +658 | City of Salisbury.
| Approximately 380 feet upstream of Willow Road | None | +763
Kerr Creek | At the confluence with Sloans Creek | None | +680 | Rowan County (Unincorporated Areas).
| Approximately 1.4 miles upstream of Corriher Springs Road (State Road 1554) | None | +845
Klutz Branch | Approximately 75 feet upstream of the confluence with Legion Park Branch | +760 | +759 | Town of Granite Quarry.
| Approximately 970 feet upstream of Peeler Street | +774 | +776
Lake Wright Branch | At the confluence with Grants Creek | +717 | +715 | Town of China Grove, Rowan County (Unincorporated Areas).
| Approximately 1,600 feet upstream of the confluence with Grants Creek | +717 | +716
Legion Park Branch | Approximately 150 feet upstream of the confluence with Trexler Creek | +707 | +706 | Rowan County (Unincorporated Areas), Town of Granite Quarry.
| Approximately 150 feet upstream of South Oak Street | None | +796
Little Creek | At the confluence with Grants Creek | +693 | +691 | Rowan County (Unincorporated Areas).
| Approximately 2,400 feet upstream of the confluence with Grants Creek | +693 | +692
South | At the confluence with Third Creek | None | +720 | Rowan County (Unincorporated Areas).
| At the Iredell/Rowan County boundary | None | +748
Lomax Creek | At the confluence with Grants Creek | +637 | +642 | Town of Spencer.
| Approximately 750 feet upstream of the confluence with Grants Creek | +641 | +642
Mahaley Branch | At the confluence with Grants Creek | +648 | +649 | City of Salisbury.
| Approximately 1,650 feet upstream of the confluence with Grants Creek | +648 | +649
Mill Creek | Approximately 250 feet downstream of the Rowan/Cabarrus County boundary | None | +714 | Rowan County (Unincorporated Areas).
| Approximately 400 feet upstream of Smith Road (State Road 1361) | None | +799
North Second Creek | At the confluence with South Yadkin River | None | +651 | Rowan County (Unincorporated Areas).
| At the confluence of Back Creek | None | +672
Park Avenue Branch | At the confluence with Town Creek | +691 | +690 | City of Salisbury.
| Approximately 700 feet upstream of the confluence with Town Creek | +691 | +690
Park Creek | At the Rowan/Cabarrus County boundary | None | +679 | Rowan County (Unincorporated Areas).
| Approximately 0.5 mile upstream of Smith Road (State Road 1360) | None | +810
Peeler Branch | At the confluence with Second Creek Tributary 1 | None | +656 | Rowan County (Unincorporated Areas), Town of Rockwell.
| Approximately 500 feet upstream of Sides Road | None | +711
Petrea Branch | At the confluence with Grants Creek | +717 | +714 | Town of China Grove.
| Approximately 180 feet upstream of Spring Branch Road | +766 | +765
Riles Creek | At the confluence with Yadkin River | None | +572 | Rowan County (Unincorporated Areas).
| Approximately 150 feet upstream of the Rowan/Stanly County boundary | None | +572
Rocky Branch | At the confluence with Grants Creek | +641 | +642 | Town of Spencer.
| Approximately 1,200 feet upstream of the confluence with Grants Creek | +641 | +642
Tributary 1 | At the confluence with Rocky Branch | +649 | +650 | Rowan County (Unincorporated Areas), City of Salisbury, Town of Spencer.
| Approximately 0.5 mile upstream of Pickett Avenue | None | +708
Rowan Avenue Park Stream | At the confluence with Grants Creek | +629 | +642 | Rowan County (Unincorporated Areas), Town of Spencer.
| Approximately 150 feet upstream of Charles Street | +641 | +642
Second Creek | At the Rowan/Davidson County boundary | None | +625 | Town of Rockwell, Rowan County (Unincorporated Areas).
| Approximately 0.7 mile upstream of the confluence with Second Creek Tributary 3 | None | +810
Tributary 1 | At the confluence with Second Creek | None | +640 | Rowan County (Unincorporated Areas).
| Approximately 190 feet downstream of Lower Palmer Road | None | +657
Tributary 2 | At the confluence with Second Creek | None | +663 | Rowan County (Unincorporated Areas), Town of Rockwell.
| Approximately 450 feet upstream of Miller Street | None | +735
Tributary 3 | At the confluence with Second Creek | None | +747 | Rowan County (Unincorporated Areas).
| Approximately 200 feet upstream of Shuping Mill Road (State Road 2663) | None | +827
Sills Creek | At the confluence with Back Creek | None | +680 | Rowan County (Unincorporated Areas).
| At the Iredell/Rowan County boundary | None | +812
Tributary 1 | At the confluence with Sills Creek | None | +702 | Rowan County (Unincorporated Areas).
| Approximately 0.6 mile upstream of the confluence with Sills Creek | None | +710
Sixth Street Branch | At the confluence with Grants Creek | +641 | +642 | Town of Spencer.
| Approximately 700 feet upstream of the confluence with Grants Creek | +641 | +642
Sloans Creek | At the confluence with Back Creek | None | +672 | Rowan County (Unincorporated Areas).
| Approximately 0.4 mile upstream of Brown Road (State Road 1211) | None | +844
South Yadkin River | At the confluence with Yadkin River | None | +647 | Rowan County (Unincorporated Areas), City of Salisbury.
| At the Iredell/Davie/Rowan County boundary | None | +697
Third Creek | At the confluence with Fourth Creek | None | +670 | Town of Cleveland, Rowan County (Unincorporated Areas).
| Just upstream of the Iredell/Rowan County boundary | None | +723
Third Street Creek | At the confluence with Grants Creek | +636 | +642 | Town of Spencer.
| Approximately 1,260 feet upstream of the confluence with Grants Creek | +641 | +642
Thomas Street Creek | At the confluence with Town Creek | +704 | +703 | City of Salisbury.
| At South Boundary Street | +704 | +703
Town Creek | At the confluence with Crane Creek/High Rock Lake | +626 | +627 | Rowan County (Unincorporated Areas), City of Salisbury, Town of East Spencer.
| Approximately 350 feet upstream of Klumac Road | +715 | +714
Tributary 1 | At the confluence with Town Creek | +646 | +645 | Rowan County (Unincorporated Areas), Town of East Spencer.
| Approximately 110 feet upstream of Tanglewood Drive | None | +714
Trexler Creek | Approximately 960 feet upstream of the confluence with Crane Creek | +709 | +708 | Town of Granite Quarry.
| Approximately 0.2 mile upstream of U.S. Highway 52 | +826 | +831
Unnamed Stream 1 | At the confluence with Fourth Creek | None | +678 | Rowan County (Unincorporated Areas).
| Approximately 0.9 mile upstream of Mount Vernon Road (State Road 1986) | None | +688
Unnamed Stream 2 | At the confluence with Fourth Creek | None | +720 | Rowan County (Unincorporated Areas).
| Approximately 0.5 mile downstream of Rary Road (State Road 1978) | None | +723
Vance Avenue Branch | At the confluence with Town Creek | +709 | +708 | City of Salisbury.
| Approximately 460 feet upstream of the confluence with Town Creek | +709 | +708
Wildlife Tributary | At the confluence with Draft Branch | +671 | +672 | City of Salisbury.
| Approximately 0.5 mile upstream of the confluence with Draft Branch | +671 | +672
Withrow Creek | At the confluence with North Second Creek | None | +665 | Rowan County (Unincorporated Areas).
| At the Iredell/Rowan County boundary | None | +743
Woodleaf Branch (East) | At the confluence with Grants Creek | +671 | +670 | City of Salisbury.
| Approximately 100 feet upstream of 4th Street | None | +707
(West) | At the confluence with Withrow Creek | None | +730 | Rowan County (Unincorporated Areas).
| At the Iredell/Rowan County boundary | None | +767
Yadkin River | Approximately 500 feet downstream of the Rowan/Davidson/Stanly/Montgomery County boundary | None | +566 | Rowan County (Unincorporated Areas), Town of Spencer.
| At the confluence of South Yadkin River | None | +647
* National Geodetic Vertical Datum.
+ North American Vertical Datum.
# Depth in feet above ground.
ADDRESSES
City of Salisbury
Maps are available for inspection at the Salisbury City Hall, 217 South Main Street, Salisbury, North Carolina.
Send comments to Mr. David Treme, Salisbury City Manager, P.O. Box 479, Salisbury, North Carolina 28145.
Town of China Grove
Maps are available for inspection at the China Grove Town Hall, 205 Swink Street, China Grove, North Carolina.
Send comments to The Honorable Don Bringle, Mayor of the Town of China Grove, 205 Swink Street, China Grove, North Carolina 28023.
Town of Cleveland
Maps are available for inspection at the Cleveland Town Hall, 302 East Main Street, Cleveland, North Carolina.
Send comments to The Honorable James Brown, Mayor of the Town of Cleveland, P.O. Box 429, Cleveland, North Carolina 27013.
Town of East Spencer
Maps are available for inspection at the East Spencer Town Hall, 105 South Long Street, East Spencer, North Carolina.
Send comments to The Honorable Erma Jefferies, Mayor of the Town of East Spencer, P.O. Box 339, East Spencer, North Carolina 28039.
Town of Faith
Maps are available for inspection at the Faith Town Hall, 100 North Main Street, Faith, North Carolina.
Send comments to The Honorable William M. Johnson, Jr., Mayor of the Town of Faith, P.O. Box 37, Faith, North Carolina 28041.
Town of Granite Quarry
Maps are available for inspection at the Granite Quarry Town Hall, 143 North Salisbury Avenue, Granite Quarry, North Carolina.
Send comments to The Honorable Mary Ponds, Mayor of the Town of Granite Quarry, P.O. Box 351, Granite Quarry, North Carolina 28072.
Town of Landis
Maps are available for inspection at the Landis Town Hall, 312 South Main Street, Landis, North Carolina.
Send comments to The Honorable Mike Mahaley, Mayor of the Town of Landis, P.O. Box 8165, Landis, North Carolina 28088.
Town of Rockwell
Maps are available for inspection at the Rockwell Town Hall, 202 East Main Street, Rockwell, North Carolina.
Send comments to The Honorable Beauford Taylor, Mayor of the Town of Rockwell, P.O. Box 506, Rockwell, North Carolina 23138.
Town of Spencer
Maps are available for inspection at the Spencer Town Hall, 600 South Salisbury Avenue, Spencer, North Carolina.
Send comments to The Honorable Alecia Bean, Mayor of the Town of Spencer, P.O. Box 45, Spencer, North Carolina 28159.
Rowan County (Unincorporated Areas)
Maps are available for inspection at the Rowan County Planning Department, 130 West Innes Street, Salisbury, North Carolina.
Send comments to Mr. William Cowan, Rowan County Manager, 130 West Innes Street, Salisbury, North Carolina 28144.
St. Croix County, Wisconsin, and Incorporated Areas
Kinnickinnic River | Approximately 1,500 feet downsteam of County Road MM | None | +897 | St. Croix County (Unincorporated Areas).
| Approximately 1,200 feet upstream of North Main Street | +884 | +896
Willow River | Approximately 2,500 feet upstream of the confluence with Paperjack Creek | +943 | +983 | St. Croix County (Unincorporated Areas).
| Approximately 1.4 miles downstream of 160th Street | +942 | +984
* National Geodetic Vertical Datum.
+ North American Vertical Datum.
# Depth in feet above ground.
ADDRESSES
St. Croix County (Unincorporated Areas)
Maps are available for inspection at St. Croix County Office Building, 1101 Carmichael Road, Hudson, WI 54016.
Send comments to Clarence W. Malick, Chairperson, St. Croix County Board of Commissioners, St. Croix County Office Building, 1101 Carmichael Road, Hudson, WI 54016.

(Catalog of Federal Domestic Assistance No. 97.022, “Flood Insurance.”)

Dated: June 26, 2007.
David I. Maurstad,
Federal Insurance Administrator of the National Flood Insurance Program, Department of Homeland Security, Federal Emergency Management Agency.

[FR Doc. E7-13183 Filed 7-6-07; 8:45 am]

BILLING CODE 9110-12-P